FEDERAL TRADE COMMISSION

16 CFR Part 24

Guides for Select Leather and Imitation Leather Products; Corrections

AGENCY: Federal Trade Commission.

ACTION: Request for public comments; correction.

SUMMARY: The Federal Trade Commission published a document in the Federal Register on May 23, 2007 (72 FR 28906) requesting public comments on the Commission's Guides for Select Leather and Imitation Leather Products (“Leather Guides”). Inadvertently, the ADDRESSES Block of the Federal Register Notice did not state that if the Notice appeared at http://www.regulations.gov, members of the public could file an electronic comment through that Web site, as well as by accessing the following Web site: https://secure.commentworks.com/ftc-leatherguides, and following the instructions on the web-based form.

FOR FURTHER INFORMATION CONTACT: Donald S. Clark, Secretary of the Commission, at (202) 326-2514.

SUPPLEMENTARY INFORMATION: This is a summary of the FTC's Erratum. The ADDRESSES Block in the May 23, 2007 Notice is amended to add the following two sentences at the end of the first paragraph in the ADDRESSES Block: “If this notice appears at http://www.regulations.gov, you may also file an electronic comment through that Web site. The Commission will consider all comments that regulations.gov forwards to it.”

Donald S. Clark,
Secretary.

[FR Doc. E7-13833 Filed 7-17-07; 8:45 am]

BILLING CODE 6750-01-P